DEPARTMENT OF COMMERCE

National Oceanic and Atmospheric Administration

Proposed Information Collection; Comment Request; Fishery Observer Retention Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 9, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Jane DiCosimo, NOAA Fisheries Office of Science and Technology, 1315 East-West Highway, SSMC3, Room 12551, Silver Spring, MD, 20910, (301) 427-8109 or Jane.DiCosimo@noaa.gov.

SUPPLEMENTARY INFORMATION:

I. Abstract

This request is for a new information collection.

NOAA Fisheries utilizes observers to collect information on catch, bycatch, fishing efforts, biological characteristics, interactions with protected species, and socioeconomic information from United States (U.S.) commercial fishing and processing vessels. More information on the observer population is needed to support the Agency's conservation and management goals, to strengthen and improve fishery management decision-making, and to satisfy legal mandates under the Reauthorization of the Magnuson-Stevens Fishery Conservation and Management Act (MSA), the Regulatory Flexibility Act (RFA), the Endangered Species Act, and the National Environmental Policy Act (NEPA), Executive Order 12866 (EO 12866), and other pertinent statutes.

The National Observer Program (NOP) is conducting a survey of fishery observers in order to investigate incentives and disincentives for remaining an observer and to identify their subsequent career choices. The data will be used by the NOP and regional observer programs to improve observer recruitment and retention rates. The survey results will be used by regional program managers to evaluate current observer provider contract requirements to increase observer retention. With a greater understanding of these data observer retention may increase as a result of improved recruitment for observers. Improved retention of qualified and experienced observers is expected to reduce training efforts and costs, and improve data quality. Observers are often the only independent data collection source for federal agency and scientists to collect at-sea data and are crucial in fishery management.

II. Method of Collection

Data will be collected via an electronic voluntary survey. We plan to distribute approximately 2000 surveys to the universe of active and former observers. The data will be collected anonymously and will not be released for public use, except in aggregate without identification as to its source.

III. Data

OMB Control Number: 0648-XXXX.

Form Number(s): None.

Type of Review: Regular (request for a new information collection).

Affected Public: Individuals or households.

Estimated Number of Respondents: 600.

Estimated Time per Response: 10 minutes.

Estimated Total Annual Burden Hours: 100.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 3, 2016.
Sarah Brabson,
NOAA PRA Clearance Officer.

[FR Doc. 2016-05228 Filed 3-8-16; 8:45 am]

BILLING CODE 3510-22-P